DEPARTMENT OF AGRICULTURE

Rural Business-Cooperative Service

Notice of Funds Availability (NOFA): Cooperative Agreements for Heir Property

AGENCY: Rural Business-Cooperative Service, USDA.

ACTION: Notice.

SUMMARY: The Rural Business-Cooperative Service (RBS) announces the availability of approximately $230,000 in funds for fiscal year (FY) 2009 for cooperative agreements to develop and implement pilot programs aimed at: (1) Preventing and alleviating the problems facing African Americans in rural areas that are involved with real estate with clouded title due to unresolved interests of generations of heirs (otherwise known as “heir properties”); (2) establishing an outreach/educational program that will assist farmers and homeowners with heir property issues in expanding ownership; and (3) enabling farming heir property owners to develop economically viable agricultural operations and accrue homeownership.

The Agency proposes to enter into a maximum of four cooperative agreements with private non-profit community based organizations (CBO) to assist them in the development of proposals to be presented to the Agency that meet the purposes described above. The maximum amount of each of these initial agreements is $20,000.

After Agency review of the proposals, the Agency may offer no more than two CBOs initially awarded cooperative agreements a subsequent cooperative agreement to implement the proposals the CBOs developed. The maximum amount of each of these subsequent agreements is $75,000.

DATES: Please submit proposals and applications for the initial cooperative agreements no later than 30 days from the date of publication in the Federal Register. Late applications will not be eligible for FY 2009 funding.

The initial cooperative agreement awardees will be selected no later than February 18, 2009. Any subsequent cooperative agreements will be awarded no later than June 3, 2009, subject to availability of funds.

ADDRESSES: Applicants may obtain application information, guides, and materials for the cooperative agreement by contacting USDA Rural Development at (202) 720-8460, (TDD: (800) 877-8339, Federal Information Relay Service) and asking for cooperative research agreement application guidance.

Submit completed paper applications for a cooperative agreement to USDA Rural Development Cooperative Programs, Attn: Cooperative Research, Mail STOP 3250, Room 4016-South, 1400 Independence Avenue, SW., Washington, DC 20250-3250. The phone number that should be used for FedEx packages is (202) 720-7558.

Submit electronic applications at http://www.grants.gov, following the instructions found on this Web site.

FOR FURTHER INFORMATION CONTACT: USDA Rural Development at (202) 720-8460, (TDD (800) 877-8339), Federal Information Relay Services).

SUPPLEMENTARY INFORMATION:

Paperwork Reduction Act

Under the Paperwork Reduction Act, 44 U.S.C. 3501 et seq., OMB must approve all “collections of information” by USDA Rural Development. The Act defines “collection of information” as a requirement for “answers to * * * identical reporting or recordkeeping requirements imposed on ten or more persons * * *.” (44 U.S.C. 3502(3)(A)) Because the Notice is expected to receive less than 10 respondents, the Paperwork Reduction Act does not apply.

Overview

Federal Agency: Rural Business-Cooperative Programs.

Funding Opportunity Title: Rural Community Development Initiative.

Announcement Type: Initial Announcement.

Catalog of Federal Domestic Assistance Number: 10.446.

Dates: You may submit completed applications for the cooperative agreement on paper or electronically according to the following deadlines:

• Paper copies must be postmarked and mailed, shipped, or sent overnight no later than January 5, 2009 to be eligible for funding. Late applications are not eligible for funding.

• Electronic copies must be received no later than January 5, 2009, to be eligible for funding. Late applications are not eligible for funding.

Purpose of Notice

The United States Department of Agriculture Rural Development has created a Request for Proposals (RFP) structured to address the land title problems (heir property) of the rural African American community. Those needs were recognized after two years of extensive research and public expertise offered during the comment period of the USDA—Advanced Notice of Proposed Rule (ANPR) published on January 10, 2007 (72 FR 1190).

Broadly defined, heir property is property passed down from one generation to another. It may be transferred to one heir, subdivided among many heirs or transferred to many heirs with undivided interest. When a property owner dies without a will, state law determines property succession (intestate succession). Typically, title to properties passing under state intestate succession laws are inherited by heirs with undivided interests thereby creating fractional interests also known as tenancy in common. If this process happens for several generations, the land titles are divided into small fractional interests which become difficult to administer. The heir property issues that have elicited concern in the African American farming community arise from tenancy in common.

The “heir property” issue includes a cluster of problems arising when undivided interest in land is passed to multiple heirs. Problems range from land partition sales to reduced crop yields as a result of underutilization and the inability to obtain adequate financing secured by a fractional interest. The array of problems caused by heir property contributes to unsuccessful business models which results in land loss and the deterioration of rural African American communities. It should be noted, however, that while unclear title contributes to unsuccessful business models it is not the sole contributor to the land loss issue.

For historical reasons this issue is closely associated with African American farmers in the South. African American landholdings in the post-bellum South were generally very small. Access to capital and competent legal counsel were problematic and there was often distrust within the African American community regarding the dominant legal and lending institutions.

For all these reasons, heir property issues emerged as a special concern of the African American agrarian community and are a priority of African American farming and land loss prevention organizations today. A parallel issue, heir housing, also presents a significant concern. Although not as extensively studied, heir housing also appears to pose substantial threats to the well being of rural African American communities.

On January 10, 2007, Rural Development published the ANPR in the Federal Register for a 60-day comment period. It detailed a study conducted by Rural Development regarding the extent of heir property in the African American community, reviewed the role of heir property in exacerbating land loss among the African American farming community, and requested further comments and information. Seventy-six comments were received from twenty commenters in response to the ANPR which have been carefully analyzed.

In order for the African American community to increase land and home-ownership and expand farming operations, they must first establish clear title to land. The Agency understands that clearing titles is an important prerequisite to establishing sound assets, but the challenge of developing sustainable market-driven business models will remain.

I. Funding Opportunity Description

A. Basic Proposal Components and Objectives

The Agency realizes that a multidimensional approach is needed to achieve the goal of minimizing African American land loss and ensuring sustainable rural African American communities. Based on suggestions from the ANPR comments, the Agency requests proposals for a pilot program for a specific area such as a county. In addition, the proposals must include a description of how steps in this multidimensional approach will be enacted concurrently. This description should include, but is not limited to, the following: Project timeline, line-item budget (identifying matching funds), project activities, minimum size and cost for representative sampling, performance measures, and evaluation criteria.

The Agency seeks proposals with new, innovative ideas for not only clearing title, but for establishing an education/outreach program that will lay the foundation to grow African American land and home ownership. The Agency urges CBOs to submit proposals with effective techniques for clearing title and ensuring that the property is managed in a long term economically viable manner.

Proposals submitted need to identify a date that will serve as the “cut-off date” for clearing titles and the approach for obtaining information based on the “cut-off date.” Additionally, proposals submitted need to address both the legal and operational issues associated with farm and home ownership. The Agency does not wish to fund any proposal solely focused on preservation. Alone, a clear title initiative would not be enough; expanding land and home ownership within the African American community is the goal.

B. Outreach/Education

The first and most important step is to enhance current outreach programs and create new ones if needed. In addition to fixing heir property problems that already exist, the Agency is looking for proposals from CBOs that can enable property owners to prevent future heir property situations through proper estate planning. The outreach portion of the proposal should also be designed to teach heir property owners about their legal rights and limitations and their options for resolving heir property problems. Another fundamental component of the outreach/education portion is teaching property owners how to use leverage assets to generate income and expand ownership.

C. Legal Assistance To Clear Title

Proposals should outline how the CBO intends to provide legal assistance to clear title. Because each heir property is a unique case, there is no one legal remedy that will work for all. Mediation, for example, is the least costly way to consolidate properties. However, it is often difficult to reach agreement among the heirs about the most judicious way to divide or sell the property, so multiple legal remedies are needed.

CBOs will also be responsible for working with attorneys that will develop strategies and coalitions to address legal hurdles, such as State property or estate laws which hold back African American farmers and homeowners from establishing clear title. USDA does not believe a blanket approach is in the best interest of heir property owners. These approaches must be flexible enough to fit the specific needs of the situation.

II. Award Information

Initial Cooperative Agreements

Type of Award: Cooperative Agreement.

Fiscal Year Funds: FY 2009.

Total Funding: $80,000.

Approximate Number of Awards: 4.

Average Award: $20,000.

Anticipated Award Date: No later than February 18, 2009.

Subsequent Cooperative Agreements

Type of Award: Cooperative Agreement.

Fiscal Year Funds: FY 2009.

Total Funding: $150,000.

Approximate Number of Awards: 2.

Average Award: $75,000.

Anticipated Award Date: No later than July 6, 2009.

III. Eligibility Information

A. Eligible Applicants: All private, non-profit, CBOs are eligible for assistance. CBOs can be secular or faith-based organizations.

B. Priority: The most important criteria for a CBO to be successful are: Locality and familiarity with heir property issues. Priority will be given to the CBOs with those strongest qualities. USDA will also pay special consideration to the CBOs that offer fresh ideas that have not been tried before but could be replicated across the Nation.

C. Project Eligibility: The project purpose is comprised of two components. First, the applicant must describe how the proposed project consists of activities needed to prevent and alleviate heir property, and to enable heir property owners to develop an economically viable agricultural operation. Second, the applicant must demonstrate that the combined activities are sufficient to prevent and alleviate heir property issues, and in the case of farmed heir property, to enable heir property owners to develop economically viable agricultural operations.

D. Completeness Eligibility: Applications without sufficient information to determine eligibility will not be considered for funding. Applications that are missing any required elements (in whole or in part) will not be considered for funding.

E. Matching Funds: Matching funds are not required but are highly encouraged. Matching funds must be provided by either the applicant or by a third party in the form of cash or in-kind contributions.

IV. Application and Submission Information

The purpose of this Notice is to seek the development of a variety of proposals that provide comprehensive solutions to address the heir property situation as described in the ANPR and above. You may submit your application in paper or in an electronic format.

If you submit your application in paper form, you must submit one signed original of your complete application along with two additional copies.

If you submit your application electronically, you must follow the instructions given at http://www.grants.gov. Applicants are advised to visit the site well in advance of the application deadline if they plan to apply electronically to ensure that they have obtained the proper authentication and have sufficient computer resources to complete the application.

Each submission shall include:

A. Form SF-424, “Application for Federal Assistance.” In order for this form to be considered complete, it must contain the legal name of the applicant, the applicant's Dun and Bradstreet Data Universal Numbering System (DUNS) number, the applicant's complete mailing address, the name and telephone number of a contact person, the employer identification number (EIN), the start and end dates of the project, the Federal funds requested, other funds that will be used as matching funds, an answer to the question, “Is applicant delinquent on any Federal debt?”, the name and signature of an authorized representative, the telephone number of the authorized representative, and the date the form was signed. Other information requested on the form may be applicable, but the above-listed information is required for an application to be considered complete.

The DUNS number is a nine-digit identification number, which uniquely identifies business entities. Applicants can receive a DUNS number at no cost by accessing http://www.dnb.com/us/ or calling (866) 705-5711.

B. Form SF-424A, “Budget Information—Non-Construction Programs.” In order for this form to be considered complete, the applicant must fill out Sections A, B, C, and D. The applicant must include both Federal and any matching funds to be included.

C. Form SF-424B, “Assurances—Non-Construction Programs.” In order for this form to be considered complete, the form must be signed by an authorized official and include the title, name of applicant, and date.

D. Title Page. The title page must include the title of the project as well as any other relevant identifying information. The length should not exceed one page.

E. Table of Contents. For ease of locating information, each proposal must contain a detailed Table of Contents immediately following the title page.

F. Executive Summary. A summary of the proposal, not to exceed one page, must briefly describe the project, including goals, tasks to be completed, and other relevant information that provides a general overview of the project. In the event an applicant submits more than one page for this element, only the first page submitted will be considered.

G. Eligibility Discussion. The applicant must describe how it meets the definition of a CBO, and how the project meets the purposes, described in Eligibility Information Section paragraph C.

H. Proposal Narrative. The narrative must include the following information:

1. Project Title. The title of the proposed project must be brief, not to exceed 75 characters, yet describe the essentials of the project. The project title does not need to appear on a separate page. It can be included on the title page and/or on the information sheet.

2. Goals of the Project. A clear statement of the ultimate goals of the project must be included. There must be an explanation of how economic benefit will be measured.

3. Workplan. The narrative must:

(i) identify the location of the area to be served and an estimate of the scope of the heir property problems contained in such area,

(ii) contain a description of how the proposal would address these problems,

(iii) identify the types of resources that would be needed,

(iv) contain a description of how such resources would be secured,

(v) identify the role of the CBO in managing the activities described and resources and capabilities of the CBO to manage these activities.

4. Description of the CBO. The narrative must:

(i) describe the CBO, including its purposes and experience in managing activities of this type and knowledge of the heir property situation in the proposed area to be served,

(ii) identify resources and capabilities of the CBO to manage activities described in item 3, and

(iii) identify the local connections the CBO has to African-American community affected by the heir property situation described in this Notice and the ANPR.

V. Application Review Information

All eligible and complete applications will be evaluated based on the following criteria and maximum point allowances. Failure to address any one of the following criteria by the application deadline will result in a determination of incompleteness and the application will not be considered for funding. The total points available for the set of criteria are 80.

1. Relevance of the project proposal (30 points). Proposals will be evaluated on how directly they address the stated objective of preventing and alleviating heir property.

2. Quality of Workplan (30 points). The quality evaluation criterion will be based on whether the proposal outlines a sound plan of work that will meet the objectives in a timely and cost-efficient manner. Factors to be weighed by evaluators in scoring a proposal's workplan will include:

• How well the steps for carrying out the work are defined;

• The logic of the sequence of proposed steps and the likelihood they will achieve their intended result;

• The establishment of clear benchmarks and timetables to measure the progress of the project; and

• The detail, accuracy, and reasonableness of the project's proposed budget.

3. Funding match and community support (5 points). Points will be awarded on the basis of the percentage match provided by the applicant and the level of support for the proposal from the community as evidenced by contribution of resources to the match and other indications of support.

• Up to 5 points will be awarded for matching funds provided by or arranged for by the applicant. Two points will be awarded for each 5 percent match, up to a maximum of 5 points for a 20 percent match.

4. CBO's locality and experience (15 points). Points will be awarded on the basis of the physical proximity of the CBO in relation to the location of the project and the CBO's experience with heir property issues in the proposed area to be served.

• Up to 15 points will be awarded for locality and experience. Five points will be awarded for locality, 5 points will be awarded for experience within the community, and 5 points experience with heir property issues.

VI. Review and Selection Process

Each application will be initially reviewed by Rural Development for eligibility and to determine whether all required elements are complete. Any incomplete or ineligible applications will not be further evaluated or considered for funding.

Once the proposals are scored, the scores will be used to rank the proposals. Final award recommendation will be sent to the Under Secretary for Rural Development for final selection concurrence.

After the award selection is made, all applicants will be notified of the status of their applications by mail. The awardee must meet all statutory and regulatory program requirements in order to receive their award. In the event that an awardee cannot meet the requirements, the award will be withdrawn. Selection will be made January 20, 2009. The Agency may have follow-up questions.

Awardees will be required to enter into a cooperative agreement with the Agency (RBS). The awardee under the terms of the agreement will be required to submit a more detailed proposal to address the heir property issues of the proposed service area.

Subsequent Agreement

Based on these submissions, the Agency may offer an awardee under this Notice the opportunity to enter into another cooperative agreement to implement the proposal submitted.

VII. Award Administration Information

A. Award Notices

The successful applicant will receive a notification of tentative selection for funding from USDA Rural Development. The applicant must sign a mutually agreed-to cooperative agreement and comply with all applicable statutes, regulations, and this notice before the award will receive final approval.

Unsuccessful applicants will receive notification, including mediation procedures and appeal rights, by mail.

B. Administrative and National Policy Requirements

This award is subject to 7 CFR parts 3015 and 3019. These regulations may be accessed at http://www.access.gpo.gov/nara/cfr/cfr-table-search.html#page1.

The following additional documentation requirements apply to the awardee selected for this program:

• Agency Approved Cooperative Agreement.

• Form RD 1940-1, “Request for Obligation of Funds”.

• Form AD-1047, “Certification Regarding Debarment, Suspension, and Other Responsibility Matters-Primary Covered Transactions”.

• Form AD-1048, “Certification Regarding Debarment, Suspension, Ineligibility and Voluntary Exclusion-Lower Tier Covered Transactions”.

• Form AD-1049, “Certification Regarding a Drug-Free Workplace Requirements (Grants)”.

• Form RD 400-1, “Equal Opportunity Agreement”.

• Form RD 400-4, “Assurance Agreement”.

Additional information on these requirements can be found at http://www.rurdev.usda.gov/rbs/coops/reic.htm.

Reporting Requirements: You must provide USDA Rural Development with an original or an electronic copy that includes all required signatures of the following reports. The reports should be submitted to the Agency contact listed on your Cooperative Agreement. Failure to submit satisfactory reports on time may result in suspension or termination of your award.

1. Form SF-269 or SF-269A. A “Financial Status Report,” listing expenditures according to agreed upon budget categories, on a quarterly basis. Reporting periods end each December 31, March 31, June 30, and September 30. Reports are due 30 days after the reporting period ends.

2. Quarterly performance reports that compare accomplishments to the objectives stated in the proposal. Identify all tasks completed to date and provide documentation supporting the reported results. If the original schedule provided in the workplan is not being met, the report should discuss the problems or delays that may affect completion of the project. Objectives for the next reporting period should be listed. Compliance with any special condition on the use of award funds should be discussed. Reporting periods end each December 31, March 31, June 30, and September 30. Reports are due 30 days after the reporting period ends. Supporting documentation must also be submitted for completed tasks. The supporting documentation for completed tasks include, but are not limited to, questionnaire or interview guides, publications of research findings, summaries of data collected, and any other documentation related to how funds were spent.

3. Final Project performance reports that compare accomplishments to the objectives stated in the proposal. Identify all tasks completed and provide documentation supporting the reported results. If the original schedule provided in the workplan was not met, the report must discuss the problems or delays that affected completion of the project. Compliance with any special condition on the use of award funds should be discussed. Supporting documentation for completed tasks must also be submitted. The supporting documentation for completed tasks include, but are not limited to, publications of research findings, summaries of data collected, documentation of data and software delivered to USDA Rural Development, and any other documentation related to how funds were spent. The final performance report is due within 90 days of the completion of the project.

VIII. Non-Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: December 1, 2008.
Thomas C. Dorr,
Under Secretary for Rural Development.

[FR Doc. E8-28805 Filed 12-4-08; 8:45 am]

BILLING CODE 3410-XY-P